DEPARTMENT OF THE INTERIOR

National Park Service

Notice of Inventory Completion for Native American Human Remains and Associated Funerary Objects in the Possession of the U.S. Department of the Interior, National Park Service, Natchez Trace Parkway, Tupelo, MS

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Natchez Trace Parkway, Tupelo, MS.

This notice is published as part of the National Park Service’s administrative responsibilities under NAGPRA, 43 CFR 10.2 (c). The determinations within this notice are the sole responsibility of the National Park Service unit that has control or possession of these Native American human remains. The Assistant Director, Cultural Resources Stewardship and Partnerships is not responsible for the determinations within this notice.

A detailed assessment of the human remains was made by National Park Service professional staff in consultation with representatives of the Absentee-Shawnee Tribe of Indians of Oklahoma; Alabama-Coushatta Tribes of Texas; Alabama-Quassarte Tribal Town, Oklahoma; Cherokee Nation, Oklahoma; Chickasaw Nation, Oklahoma; Chitimacha Tribe of Louisiana; Choctaw Nation of Oklahoma; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muskogee (Creek) Nation, Oklahoma; Poarch Band of Creek Indians of Alabama; Seminole Nation of Oklahoma; Seminole Tribe of Florida, Dania, Big Cypress, Brighton, Hollywood & Tampa Reservations; Thlopthlocco Tribal Town, Oklahoma; Tunica-Biloxi Indian Tribe of Louisiana; and United Keetoowah Band of Cherokee Indians of Oklahoma. The Shawnee Tribe, also known also as the “Loyal Shawnee” or “Cherokee Shawnee,” a nonfederally recognized Native American group at the time that they were consulted, has since been recognized as eligible for the special programs and services provided by the United States to Indians because of their status as Indians under provisions of P.L. 106-568.

The 50 human remains and 5,257 associated funerary objects described below were recovered from 5 different sites.

In 1939, human remains representing 13 individuals were recovered from Alton’s Chickasaw Village during a legally authorized National Park Service excavation. No known individuals were identified. The 2,174 associated funerary objects are 2,107 glass beads, 55 kettle fragments, 2 brass buckles, 2 ear plugs, 2 pieces of wood, 2 cloth fragments, 1 animal bone fragment, 1 bell, 1 iron hoe, and 1 metal spring.

In 1940, human remains representing 26 individuals were recovered from the Ackia Village site during a legally authorized National Park Service excavation to gather information on historic Chickasaw sites. No known individuals were identified. The 88 associated funerary objects are 28 musket balls, 17 metal spring fragments, 12 buttons, 7 pieces of worked bone, 5 gunflints, 4 flake tools, 2 glass beads, 2 projectile points, 2 knife fragments, 2 bracelets, 1 brass bell, 1 nail, 1 metal fragment, 1 stone biface, 1 scraper, 1 cup, and 1 tobacco pipe.

In 1940, human remains representing three individuals were recovered from the Beldin’s Ridge site during a legally authorized National Park Service project. No known individuals were identified. The 977 associated funerary objects are 972 glass beads, 2 copper ornaments, 2 Wilson Plain-variety Oktibbeha ceramic vessel fragments, and 1 stone tool.

In 1947 and 1948, human remains representing seven individuals were recovered from the Bynum Mounds site during a legally authorized project. No known individuals were identified. The 2,014 associated funerary objects are 1,916 glass beads, 27 metal fragments, 9 silver spoons, 9 flintlock fragments, 6 cloth fragments, 5 metal files, 4 metal knives, 4 wire fragments, 4 copper earrings, 4 ornaments, 3 metal cups, 2 shell gorgets, 2 musket balls, 2 rivets, 2 blades, 2 utensils, 1 tobacco pipe, 1 gunflint, 1 whetstone, 1 silver brooch, 1 silver crown, 1 metal spike, 1 metal spring, 1 button, 1 snuffbox, 1 bell, 1 powder flask, 1 ground stone, 1 polishing stone, 1 basket fragment, 1 worked antler, 1 metal screw, and 1 unidentifiable object.

In 1955, human remains representing one individual were recovered from the site of the Futorian Furniture Company. The site, which is located off of park property, was legally excavated. No known individual was identified. No associated funerary objects are present.

Ackia Village, Alton’s Chickasaw Village, Beldin’s Ridge, and the Futorian Furniture Company sites are all located in the vicinity of Tupelo, MS, within the area known as “Chickasaw Old Fields.” In the early 18th century, the Chickasaw consolidated their settlements into this area. The locations of these villages are recorded on several historic maps. On the basis of historic maps and records, as well as the archeological data gathered during the excavations, the occupation of these sites has been dated to the first half of the 18th century (A.D. 1700-1750). Historical accounts also document that each of these sites was the location of a Chickasaw village and is within the historic homeland of the Chickasaw Nation.

The Bynum Mounds site is located south of Tupelo in Chickasaw County, MS. The site consists of a village and burial mound dating to the Woodland period (200-300 B.C.), and a historic period (A.D. 1750-1850) village occupation. On the basis of the artifacts associated with the burials, the human remains from the historic component are believed to date to the early 19th century (A.D. 1800-1830). The site is located within the historic homeland of the Chickasaw Nation.

Based on the above-mentioned information, the superintendent of Natchez Trace Parkway has determined that, pursuant to 43 CFR 10.2 (d)(1), the human remains listed above represent the physical remains of 50 individuals of Native American ancestry. The superintendent of Natchez Trace Parkway also has determined that, pursuant to 43 CFR 10.2 (d)(2), the 5,257 objects listed above are reasonably believed to have been placed with or near individual human remains at the time of death or later as part of a death rite or ceremony. Lastly, the superintendent of Natchez Trace Parkway has determined that, pursuant to 43 CFR 10.2 (e), there is a relationship of shared group identity that can be reasonably traced between the Native American human remains and associated funerary objects recovered from Ackia Village, Alton’s Chickasaw Village, Beldin’s Ridge, the historic component the Bynum Mounds, and the Futorian Furniture Company sites, and the Chickasaw Nation, Oklahoma.

This notice has been sent to officials of the Absentee-Shawnee Tribe of Indians of Oklahoma; Alabama and Coushatta Tribes of Texas; Alabama-Quassarte Tribal Town, Oklahoma; Cherokee Nation, Oklahoma; Chickasaw Nation, Oklahoma; Chitimacha Tribe of Louisiana; Choctaw Nation of Oklahoma; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muskogee (Creek) Nation, Oklahoma; Poarch Band of Creek Indians of Alabama; Seminole Nation of Oklahoma; Seminole Tribe of Florida, Dania, Big Cypress, Brighton, Hollywood & Tampa Reservations; Shawnee Tribe, Oklahoma; Thlopthlocco Tribal Town, Oklahoma; Tunica-Biloxi Indian Tribe of Louisiana; and United Keetoowah Band of Cherokee Indians of Oklahoma. Representatives of any other Indian tribe that believes itself to be culturally affiliated with these human remains and associated funerary objects should contact Wendell Simpson, Superintendent, Natchez Trace Parkway, 2680 Natchez Trace Parkway, Tupelo, MS 38803, telephone (662) 680-4005, before February 7, 2002. Repatriation of the human remains and associated funerary objects to the Chickasaw Nation, Oklahoma may begin after that date if no additional claimants come forward.

Dated: October 19, 2001.
John Robbins,
Assistant Director, Cultural Resources Stewardship and Partnerships.

[FR Doc. 02-385 Filed 1-7-02; 8:45 am]

BILLING CODE 4310-70-S